DEPARTMENT OF COMMERCE

National Oceanic and Atmospheric Administration

Proposed Information Collection; Comment Request; Atlantic Highly Migratory Species (HMS) Individual Bluefin Tuna Quota Tracking

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 2, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Margo Schulze-Haugen, (301) 427-8503 or Margo.Schulze-Haugen@noaa.gov.

SUPPLEMENTARY INFORMATION:

I. Abstract

Amendment 7 to the 2006 Consolidated HMS Fishery Management Plan (79 FR 71510, December 2, 2014) implemented individual bluefin tuna quota (IBQ) shares and allocations for vessels permitted in the Atlantic Tunas Longline Category and Atlantic Tunas Purse Seine Category. IBQs are intended to fairly and effectively allocate limited quota for incidental capture of bluefin tuna among vessels in the Longline category, while minimizing dead discards and discouraging interactions with bluefin tuna, and better utilizing the Purse seine category quota. An on-line system developed by the NOAA National Marine Fisheries Service (NMFS) tracks allocations and allocation leases, and reconciles leases with bluefin tuna catches for quota monitoring. The extension of this collection of information will allow NMFS to continue to account for the reporting burden associated with allocation and lease tracking. There are no new requirements.

First-time vessel permit holders in the affected categories must obtain and set up an IBQ account in the online “Catch Shares Online System” in order to be issued IBQ shares and resultant allocation, and to lease IBQ. To use the electronic IBQ System, first-time participants will need to request an account and set their account up with background information. The information collected during account issuance and set-up will be used by NMFS to verify the identity of the individual/business and whether they qualify for IBQ allocation leasing.

The lease monitoring information collected by the online system will be used by each permit holder to keep track of their individual IBQ allocation, and document allocation leases with other IBQ participants. NMFS will use these data to ensure proper accounting of allocations among participants, and to track use of quota allocations and reconcile allocation usage with bluefin tuna catch and landings.

Atlantic HMS fisheries are managed under the dual authority of the Magnuson-Stevens Fishery Conservation and Management Act (MSA) and the Atlantic Tunas Convention Act (ATCA). Under the MSA, management measures must be consistent with ten National Standards, and fisheries must be managed to maintain optimum yield, rebuild overfished fisheries, and prevent overfishing. Under ATCA, the Secretary of Commerce shall promulgate regulations, as necessary and appropriate, to implement measures adopted by the International Commission for the Conservation of Atlantic Tunas (ICCAT).

II. Method of Collection

Information will be collected on line using the electronic IBQ System.

III. Data

OMB Control Number: 0648-0677.

Form Number(s): None.

Type of Review: Regular (extension of a current information collection).

Affected Public: Businesses or other for-profit organizations; individuals or households; and State, Local, or Tribal government.

Estimated Number of Respondents: 120.

Estimated Time per Response: 10 minutes for initial application for IBQ account; 15 minutes per IBQ allocation lease.

Estimated Total Annual Burden Hours: 29.

Estimated Total Annual Cost to Public: $1,100 in recordkeeping/reporting costs (total annualized expense for 5% of respondents who may not have a computer and choose to purchase one).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 27, 2017.
Sarah Brabson,
NOAA PRA Clearance Officer.

[FR Doc. 2017-16193 Filed 8-1-17; 8:45 am]

BILLING CODE 3510-22-P